ENVIRONMENTAL PROTECTION AGENCY

[EPA-HQ-OAR-2023-0133; FRL-12657-01-OMS]

Agency Information Collection Activities; Submission to the Office of Management and Budget for Review and Approval; Comment Request; NESHAP for Site Remediation (Renewal)

AGENCY: Environmental Protection Agency (EPA).

ACTION: Notice.

SUMMARY: The Environmental Protection Agency (EPA) has submitted an information collection request (ICR), NESHAP for Site Remediation (EPA ICR Number 2062.11, OMB Control Number 2060-0534) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2023-0133, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The NESHAP for Site Remediation was proposed on July 30, 2002, promulgated on October 8, 2003, and most recently amended on July 10, 2020 and December 22, 2022. These regulations apply to site remediation activities that clean up materials containing organic hazardous air pollutants (HAP), where the site remediation is co-located at any facility with one or more stationary source that emit HAP, and where the facility is a major source of HAP. Major sources of HAP are sources that emit any single HAP at a rate of 10 tons or more per year or any combination of HAP at a rate of 25 tons or more per year. Site remediation activities may potentially occur at any facility where materials containing organic HAP currently are or have been stored, processed, treated, or otherwise managed at the facility. The types of businesses most likely to be subject to this rule include, but are not limited to, organic liquid storage terminals, petroleum refineries, chemical manufacturing facilities, and manufacturing facilities using organic materials. New facilities include those that commenced construction, modification, or reconstruction after the date of proposal. This information is being collected to assure compliance with 40 CFR part 63, subpart GGGGG. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: 5900-706.

Respondents/affected entities: Facilities conducting site remediation activities.

Respondent's obligation to respond: Mandatory (40 CFR part 63, subpart GGGGG).

Estimated number of respondents: 104 (total).

Frequency of response: Initially and semiannually.

Total estimated burden: 47,100 hours (per year). Burden is defined at 5 CFR 1320.03(b).

Total estimated cost: $5,670,000 (per year), which includes $256,000 annualized capital or operation & maintenance costs.

Changes in the Estimates: There is an increase in the total estimated respondent burden compared with the ICR currently approved by OMB. This increase is due to an increase in the number of respondents. A December 2022 rulemaking amended this subpart by removing an exemption from the applicability provisions for site remediation activities performed under the authority of the Comprehensive Environmental Response and Compensation Liability Act (CERCLA) and for site remediation activities performed under a Resource Conservation and Recovery Act (RCRA) corrective action or other required RCRA order. This resulted in an increase in the number of respondents and estimated burden. This ICR further adjusts the burden based on the assumption that the initial requirements for new sources have already been met. There is a decrease in capital costs based on the assumption that initial capital costs have already been incurred by facilities that became subject to the rule in December 2022. There is an increase in O&M costs due to the increased number of existing facilities that conduct O&M activities.

Courtney Kerwin,
Director, Information Engagement Division.

[FR Doc. 2025-03346 Filed 2-27-25; 8:45 am]

BILLING CODE 6560-50-P